DEPARTMENT OF COMMERCE

International Trade Administration

[A-557-809]

Stainless Steel Butt-Weld Pipe Fittings From Malaysia: Preliminary Results of Antidumping Duty Administrative Review and Partial Rescission of Antidumping Duty Administrative Review; 2017-2018

AGENCY: Enforcement and Compliance, International Trade Administration, Department of Commerce.

SUMMARY: The Department of Commerce (Commerce) preliminarily determines that Superinox made sales of subject merchandise at less than normal value during the period of review (POR) February 1, 2017, through January 31, 2018. Additionally, we are rescinding the review with respect to Pantech Stainless & Alloy Industries Sdn. Bhd. (Pantech). Interested parties are invited to comment on these preliminary results.

DATES: Applicable October 24, 2018.

FOR FURTHER INFORMATION CONTACT: Madeline R. Heeren or Tyler Weinhold, AD/CVD Operations, Office IV, Enforcement and Compliance, International Trade Administration, U.S. Department of Commerce, 1401 Constitution Avenue NW, Washington, DC 20230; telephone: (202) 482-9179 or (202) 482-1121, respectively.

SUPPLEMENTARY INFORMATION:

Background

On February 23, 2001, Commerce published in the Federal Register an antidumping (AD) order on pipe fittings from Malaysia.¹ On February 1, 2018, Commerce notified interested parties of the opportunity to request an administrative review of orders, findings, or suspended investigations with anniversaries in February, including the AD Order on pipe fittings from Malaysia.² Commerce received timely requests from Core Pipe Products, Inc., Shaw Alloy Piping Products, LLC, and Taylor Forge Stainless Inc. (the petitioners) to conduct an administrative review of certain exporters covering the POR. On April 16, 2018, Commerce published in the Federal Register a notice initiating an administrative review of the Order covering Pantech and Superinox for the POR.³

¹ See Antidumping Duty Orders: Stainless Steel Butt-Weld Pipe Fittings from Italy, Malaysia, and the Philippines, 66 FR 11257 (February 23, 2001) (Order).

² See Antidumping or Countervailing Duty Order, Finding, or Suspended Investigation; Opportunity to Request Administrative Review, 83 FR 22 (February 1, 2018).

³ See Initiation of Antidumping and Countervailing Duty Administrative Reviews, 83 FR 16298 (April 16, 2018) (Initiation Notice).

Subsequently, we issued the AD questionnaire to Pantech and Superinox, the two mandatory respondents.⁴ On May 29, 2018, the petitioners timely withdrew their request for administrative review of Pantech, pursuant to 19 CFR 351.213(d)(1).⁵ Superinox did not respond to the questionnaire and has filed no submissions on the record for this administrative review. For a complete description of the events that followed the initiation of this administrative review, see the Preliminary Decision Memorandum.⁶ A list of topics included in the Preliminary Decision Memorandum is included in the Appendix to this notice.

⁴ See Commerce's Letters to Pantech and Superinox dated May 8, 2018; see also, Memorandum, “Delivery of Antidumping Duty Questionnaire to Superinox Max Fittings Industry Sdn. Bhd.,” dated August 16, 2018.

⁵ See Letter from the petitioner, “Stainless Steel Butt-Weld Pipe Fittings form Malaysia—Petitioners' Withdrawal of Review Request of Pantech,” dated May 29, 2018. The three companies that the petitioner did not include in its withdrawal were Overseas International Steel Industry LLC, Overseas Distribution Services Inc., and Oman Fasteners.

⁶ See Memorandum, “Decision Memorandum for Preliminary Results of the 2017-2018 Antidumping Duty Administrative Review of Stainless Steel Butt-Weld Pipe Fittings from Malaysia,” dated concurrently with, and hereby adopted by this notice (Preliminary Decision Memorandum).

The Preliminary Decision Memorandum is a public document and is on file electronically via Enforcement and Compliance's Antidumping and Countervailing Duty Centralized Electronic Service System (ACCESS). ACCESS is available to registered users at https://access.trade.gov and to all parties in the Central Records Unit, located in Room B8094 of the main Department of Commerce building. In addition, a complete version of the Preliminary Decision Memorandum can be accessed directly at http://enforcement.trade.gov/frn/. The signed and the electronic versions of the Preliminary Decision Memorandum are identical in content.

Partial Rescission of Administrative Review

The petitioners timely withdrew their request for review of one company listed in the Initiation Notice, and because the petitioners were the only party to request a review of that company, we are rescinding the administrative review with respect to Pantech, pursuant to 19 CFR 351.213(d)(1). Accordingly, the remaining company subject to the instant review is Superinox.

Scope of the Order

For purposes of the Order, the product covered is butt-weld fittings. Butt-weld fittings are under 14 inches in outside diameter (based on nominal pipe size), whether finished or unfinished. The product encompasses all grades of stainless steel and “commodity” and “specialty” fittings. Specifically excluded from the definition are threaded, grooved, and bolted fittings, and fittings made from any material other than stainless steel. For a complete description of the scope of the Order, see the Preliminary Decision Memorandum.

Facts Available

Pursuant to section 776(a) of the Act, Commerce is preliminarily relying upon facts otherwise available to assign an estimated weighted-average dumping margin to Superinox in this review because Superinox withheld necessary information that was requested by Commerce, thereby significantly impeding the conduct of the review. Further, Commerce preliminarily determines that Superinox failed to cooperate by not acting to the best of its ability to comply with requests for information and, thus, Commerce is applying adverse facts available (AFA) to Superinox, in accordance with section 776(b) of the Act. For a full description of the methodology underlying our conclusions regarding the application of AFA, see the Preliminary Decision Memorandum.

Preliminary Results of Review

As a result of this review, we preliminarily determine the following weighted-average dumping margin for the period February 1, 2017, through January 31, 2018:

Exporter/producer | Weighted- average dumping margins (percent)
Superinox Max Fittings Industries Sdn. Bhd | 60.10

Disclosure and Public Comment

Normally, Commerce discloses to interested parties the calculations performed in connection with a preliminary determination within five days of any public announcement or, if there is no public announcement, within five days of the date of publication of the notice of preliminary determination in the Federal Register, in accordance with 19 CFR 351.224(b). However, because Commerce preliminarily applied AFA to the only individually examined company in this administrative review—Superinox—in accordance with section 776 of the Act, there are no calculations to disclose.

Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.⁷ Parties who submit case briefs or rebuttal briefs in this proceeding are requested to submit with each brief: (1) A statement of the issue, (2) a brief summary of the argument, and (3) a table of authorities.⁸ Executive summaries should be limited to five pages total, including footnotes.⁹ Case and rebuttal briefs should be filed using ACCESS.¹⁰

⁷ See 19 CFR 351.309(d)(1).

⁸ See 19 CFR 351.309(c)(2) and (d)(2).

⁹ Id.

¹⁰ See 19 CFR 351.303.

Pursuant to 19 CFR 351.310(c), any interested party may request a hearing within 30 days of the publication of this notice in the Federal Register. If a hearing is requested, Commerce will notify interested parties of the hearing schedule. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs. We intend to issue the final results of this administrative review, including the results of our analysis of issues raised by the parties in the written comments, within 120 days of publication of these preliminary results in the Federal Register, unless otherwise extended.¹¹

¹¹ See section 751(a)(3)(A) of the Act.

Assessment Rates

Upon completion of the administrative review, Commerce shall determine, and CBP shall assess, antidumping duties on all appropriate entries. Commerce intends to issue assessment instructions to CBP 15 days after the date of publication of the final results of this review.

For entries of subject merchandise during the POR produced by each respondent for which it did not know its merchandise was destined for the United States, we will instruct CBP to liquidate such entries at the all-others rate if there is no rate for the intermediate company(ies) involved in the transaction.¹² Where either the respondent's weighted-average dumping margin is zero or de minimis, or an importer-specific assessment rate is zero or de minimis, we will instruct CBP to liquidate the appropriate entries without regard to antidumping duties.

¹² See Antidumping and Countervailing Duty Proceedings: Assessment of Antidumping Duties, 68 FR 23954 (May 6, 2003).

For the company for which this review is rescinded, antidumping duties will be assessed at rates equal to the cash deposit of estimated antidumping duties required at the time of entry, or withdrawn from warehouse, for consumption, in accordance with 19 CFR 351.212(c)(1)(i). Commerce intends to issue appropriate assessment instructions directly to CBP 15 days after publication of this notice. The final results of this review shall be the basis for the assessment of antidumping duties on entries of merchandise covered by the final results of this review and for future deposits of estimated duties, where applicable.

Cash Deposit Requirement

The following cash deposit requirements will be effective upon publication of the notice of the final results of administrative review for all shipments of pipe fittings from Malaysia entered, or withdrawn from warehouse, for consumption on or after the date of publication of the final results of this administrative review, as provided by section 751(a)(2)(C) of the Act: (1) The cash deposit rate for the companies under review will be the rate established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 7.51 percent ad valorem, the all-others rate established in the less-than-fair value investigation.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results and partial rescission of administrative review are issued and published in accordance with sections 751(a)(1) and 777(i)(1) of the Act and 19 CFR 351.213(h)(1).

Dated: October 18, 2018.
James Maeder,
Associate Deputy Assistant Secretary for Antidumping and Countervailing Duty Operations, performing the duties of Deputy Assistant Secretary for Antidumping and Countervailing Duty Operations.

Appendix

List of Topics Discussed in the Preliminary Decision Memorandum

I. Summary

II. Background

III. Scope of the Order

IV. Partial Rescission of Administrative Review

V. Use of Facts Otherwise Available and Adverse Interferences

VI. Recommendation

[FR Doc. 2018-23222 Filed 10-23-18; 8:45 am]

BILLING CODE 3510-DS-P